DEPARTMENT OF THE INTERIOR

Bureau of Land Management

[NV-930-1430-ET; NVN-83979; 7-08807]

Notice of Proposed Withdrawal and Opportunity for Public Meeting; Nevada

AGENCY: Bureau of Land Management, Interior.

ACTION: Notice.

SUMMARY: The Secretary of the Interior proposes to withdraw on behalf of the Bureau of Land Management (BLM) approximately 944,343 acres of public lands from settlement, sale, location, entry, or patent under the United States mining laws, for a period of 2 years for the BLM to protect desert tortoise habitat, archaeological and cultural resources, and special wildlife and riparian values on 24 Areas of Critical Environmental Concern (ACEC). This notice temporarily segregates the lands for up to 2 years from location and entry under the United States mining laws while a proposed 20-year withdrawal application is being processed in accordance with Sec. 204 of the Federal Land Policy and Management Act of October 21, 1976, 43 U.S.C. 1714 (2000).

DATES: Comments must be received by January 30, 2008.

ADDRESSES: Comments should be mailed to the Field Manager, BLM Las Vegas Field Office, 4701 N. Torrey Pines Drive, Las Vegas, NV 89130-2301.

FOR FURTHER INFORMATION CONTACT: Jacqueline Gratton, BLM Nevada State Office, (775) 861-6532.

SUPPLEMENTARY INFORMATION: The applicant is the BLM Las Vegas Field Office. The petition/application requests the Secretary of the Interior to withdraw, for 20 years, the following described lands from location and entry under the United States mining laws, subject to valid existing rights:

Mount Diablo Meridian, Nevada

Amargosa Mesquite Trees ACEC (NVN 76865)

T. 16 S., R. 51 E.,

Sec. 35;

Sec. 36, SW¼.

T. 17 S., R. 51 E.,

Sec. 1, lots 3 and 4, S½NW¼, and S½;

Sec. 2;

Sec. 11, E½;

Secs. 12 and 13;

Sec. 14, E½;

Sec. 23, E½;

Secs. 24 and 25;

Sec. 26, E½;

Secs. 35 and 36.

Ash Meadows ACEC (NVN 76868)

T. 17 S., R. 50 E.,

Secs. 7 and 8;

Sec. 9, lots 1 to 12, inclusive;

Sec. 10, lots 1 to 8, inclusive;

Sec. 11;

Sec. 12, lots 1 to 15, inclusive;

Sec. 13;

Sec. 14, lots 1 to10, inclusive, and lots 12 to 16, inclusive;

Sec. 15, lots 1 to 4, inclusive;

Sec. 17, W½NE¼, NW¼, SW¼, and W½SE¼;

Sec. 18;

Sec. 19, lots 1, 2, and lots 5 to 10, inclusive, SE¼NW¼, and N½NE¼;

Sec. 20, NW¼ and N½SW¼;

Sec. 23, lots 1, 2, 5, and 6, N½SE¼, E½SW1/4SSE¼, and SE¼SE¼;

Secs. 24 and 25;

Sec. 26, NE¼NE¼, E½NW¼NE¼, S½NE¼, SW¼NW¼, and S½SE¼NW¼;

Sec. 30, lots 3 to 10, inclusive, E½SW¼, and W½SE¼;

Sec. 31;

Sec. 32, W½W½;

Sec. 36, NE¼ and N½SE¼.

T. 18 S., R. 50 E.,

Sec. 5;

Sec. 6, lots 1 and 2, lots 8 to 12, inclusive, S½NE¼, SE¼NW¼, E½SW¼, and W½W½SE¼;

Sec. 7, lots 4 to 10, inclusive, S½NE¼, E½NW¼, NE¼SW¼, and N½SE¼;

Sec. 8;

Sec. 9, W½NW¼ and SW¼;

Sec. 16, lot 2, W½NE¼, NW¼, N½SW¼, SE¼SW¼, and W½SE¼;

Secs. 17 to 22, inclusive;

Sec. 25, S½;

Sec. 26, W½;

Secs. 27 to 29, inclusive, and

Secs. 33 to 36, inclusive.

T. 17 S., R. 51 E.,

Sec. 7;

Sec. 8, NW¼NE¼, W½SW¼NE¼, W½, and W½NW¼SE¼;

Sec. 17, S½NE¼NE¼, W½NE¼, SE¼NE¼, W½, and SE¼;

Secs. 18 to 20, inclusive;

Secs. 29 and 30;

Sec. 31, lots 1, 2, and 3, NE¼NE¼, W½NE¼, E½NW¼, NE¼SW¼, and SW¼SE¼;

Sec. 32, lots 1 to 4, inclusive, N½NW¼, and NE¼.

T. 18 S., R. 51 E.,

Sec. 17, E½E½;

Sec. 20, E½E½;

Sec. 29, S½ and E½NE¼;

Sec. 30, lots 3 and 4, E½SW¼ and SE¼;

Secs. 31 and 32.

Big Dune ACEC (NVN 76869)

T. 15 S., R. 48 E.,

Sec. 8, S½, unsurveyed;

Sec. 9, S½, unsurveyed;

Secs. 16 and 17, unsurveyed.

T. 22 S., R. 60 E.,

Sec. 32, W½NE¼NE¼NE¼, W½NE¼NE¼, SE¼NE¼NE¼, W½NE¼, W½NE¼SE¼NE¼, W½SE¼NE¼, W½NE¼NE¼NW¼, S½NE¼NW¼, E½NE¼NW¼NW¼, E½SW¼NW¼NW¼, W½SE¼NW¼NW¼, E½NE¼SW¼NW¼, W½SW¼NW¼, SE¼SW¼NW¼, W½NE¼SE¼NW¼, W½SE¼NW¼, SE¼SE¼NW¼, and S½;

Sec. 33, NE¼NE¼SW¼, W½NW¼NE¼SW¼, S½NE¼SW¼, NW¼SW¼, W½NE¼SW¼SW¼, W½SW¼SW¼, SE¼SW¼SW¼, E½NE¼SE¼SW¼, W½SE¼SW¼, W½SE¼SE¼SW¼, N½SE¼, SW¼SE¼, W½NE¼SE¼SE¼, and NW¼SE¼SE¼.

T. 23 S., R 60 E.,

Sec. 4, lots 1 to 4, inclusive, and S½N½;

Sec. 5, lots 1 to 4, inclusive, and S½N½.

Arrow Canyon ACEC (NVN 76867)

T. 14 S., R. 64 E.,

Sec. 10, NW¼, E½SW¼, and SE¼, unsurveyed;

Sec. 11, SW¼, unsurveyed;

Sec. 13, unsurveyed;

Sec. 14, N½ and SE¼, unsurveyed;

Sec. 15, NE¼ and E½NW¼, unsurveyed.

T. 14 S., R. 65 E.,

Sec. 7, lots 3 and 4, E½SW¼ and SE¼.

Bird Spring ACEC (NVN 76870)

T. 24 S., R. 59 E.,

Sec. 4, lots 1 and 2, and S½NE¼.

Coyote Springs Tortoise ACEC (NVN 76871)

T. 13 S., R. 63 E.,

Sec. 20, that part lying east of Right-of-Way Nev 060729 (U.S. Highway 93) and south of Right-of-Way Nev 065185 (State of Nevada Highway 168);

Secs. 21, 22, 23, and 26, inclusive for those portions lying south of Right-of-Way Nev 065185 (State of Nevada Highway 168);

Sec. 27;

Secs. 28, 29, and 33, inclusive for those portions lying east of U.S. Fish & Wildlife Service (FWS) Management Boundary;

Secs. 34 and 35.

T. 13½ S., R. 63 E.,

Sec. 33, that part lying east of FWS Management Boundary, unsurveyed;

Secs. 34 and 35, unsurveyed.

T. 14 S., R. 63.,

Secs. 2 and 3, unsurveyed;

Secs. 4 and 9, inclusive for those portions lying east of FWS Management Boundary, unsurveyed;

Secs. 10, 11, 14, and 15, unsurveyed;

Secs. 16 and 21, inclusive for those portions lying east of FWS Management Boundary, unsurveyed;

Secs. 22, 23, 26, and 27, unsurveyed;

Secs. 28 and 33, inclusive for those portions lying east of FWS Management Boundary, unsurveyed;

Secs. 34 and 35, unsurveyed.

T. 15 S., R. 63 E.,

Sec. 2, unsurveyed;

Secs. 3, 4, and 10, inclusive for those portions lying east of FWS Management Boundary, unsurveyed;

Secs. 11 and 14, unsurveyed;

Sec. 15, that part lying east of FWS Management Boundary, unsurveyed;

Secs. 18 to 21, inclusive for those portions lying south of FWS Management Boundary, unsurveyed;

Sec. 22, that part lying east and south of FWS Management Boundary, unsurveyed;

Secs. 27 to 34, inclusive, unsurveyed.

T. 16 S., R. 63 E.,

Secs. 3 to 10, inclusive, secs. 15 to 22, inclusive, and secs. 28 to 33, inclusive.

T. 17 S., R. 63 E.,

Secs. 7, 8, and 9, secs. 16 to 21, inclusive, and 28 to 31, inclusive;

Sec. 32, that part lying west of powerline Right-of-Way N-53399.

T. 18 S., R. 63 E.,

Sec. 5, that part lying west of powerline Right-of-Way N-53399;

Secs. 6, 7, 8, 17, 18, 19, 29, and 30, for those portions lying west of powerline Right-of-Way N-53399;

Sec. 31, lots 7, 8, 9, 15, 18, and NW¼NE¼.

T. 19 S., R. 63 E.,

Sec. 6, that part lying west of powerline Right-of-Way N-53399.

Crescent Townsite ACEC (NVN 76872)

T. 28 S., R. 61 E.,

Sec. 29, SW¼ and W½SE¼, excluding patented lands;

Sec. 30, E½SE¼;

Sec. 32, W½NE¼ and E½NW¼.

Devil's Throat ACEC (NVN 76874)

T. 17 S., R. 70 E.,

Sec. 26.

Gold Butte Part A, ACEC (NVN 76875)

T. 14 S., R. 69 E.,

Secs. 24, 25, 26, 34, 35, and 36.

T. 15 S., R. 69 E.,

Secs. 1, 2, 3, 9, and 10;

Sec. 11, N½, N½SW¼, N½SE¼, SW¼SW¼ and SE¼SE¼;

Secs. 12 and 13;

Sec. 14, NE¼NE¼, S½NE¼, S½NW¼, NW¼NW¼ and S½;

Secs. 15 and 16;

Secs. 21 to 28, inclusive, and secs. 33 to 36, inclusive.

T. 16 S., R. 69 E.,

Secs. 1 to 4, inclusive, and 8 to 17, inclusive;

Secs. 20 to 28, inclusive, and 33 to 36, inclusive.

T. 17 S., R. 69 E.,

Secs. 1, 2, 3, and 11 to 14, inclusive;

Secs. 24, 25, and 36, excluding patented lands.

T. 18 S., R. 69 E.,

Sec. 1, excluding patented lands.

T. 14 S., R. 70 E.,

Sec. 1;

Secs. 10 to 36, inclusive.

T. 15 S., R. 70 E.,

Secs. 2 to 11, inclusive, and secs. 15 to 20, inclusive;

Secs. 21 and 22, excluding patented lands;

Secs. 28 to 33, inclusive.

T. 16 S., R. 70 E.,

Secs. 4 to 11, inclusive, and secs. 13 to 36, inclusive.

T. 17 S., R. 70 E.,

Secs. 1 to 36, inclusive.

T. 18 S., R. 70 E.,

Secs. 1 to 6, inclusive, secs. 10 to 15, inclusive, secs. 22 to 27, inclusive, secs. 34, 35, and 36, unsurveyed.

T. 13 S., R. 71 E.,

Sec. 32; sec. 33, that part lying west of Range Improvement (Fence) 0101.

T. 14 S., R. 71 E.,

Sec. 4, that part lying west of Range Improvement (Fence) 0101;

Secs. 5 to 8, inclusive;

Secs. 9, 10, and 15, inclusive for those portions lying west of Range Improvement (Fence) 0101;

Secs. 16 to 20, inclusive;

Sec. 21, that part lying northwest of NVCC 022455 Pipeline Right-of-Way;

Secs. 22 and 28, inclusive for those portions lying west of NVCC 022455 Pipeline Right-of-Way;

Secs. 29, 30, and 31.

T. 16 S., R. 71 E.,

Sec. 19;

Secs. 29 to 32, inclusive.

T. 17 S., R. 71 E.,

Secs. 4 to 10, inclusive, secs. 15 to 22, inclusive, and secs. 27 to 34, inclusive, unsurveyed.

T. 18 S., R. 71 E.,

Secs. 3 to 10, inclusive, secs. 15 to 22, inclusive, and secs. 27 to 34, inclusive, unsurveyed.

T. 19 S., R. 71 E.,

Secs. 3, 4, 9, 10, 15, 16, 21, and 22, unsurveyed;

Secs. 27 and 28, for those portions lying north of Withdrawal Reclamation Project (Wdl Recl Proj) of 1/31/1903.

Gold Butte Part B, ACEC (NVN 76876)

T. 17 S., R. 69 E.,

Secs. 22 and 23;

Sec. 26, excluding patented lands;

Secs. 27 and 34;

Sec. 35, excluding patented lands.

T 18 S., R. 69 E.,

Sec. 2, excluding patented lands;

Secs. 3, 9, and 10;

Secs. 11 and 12, excluding patented lands;

Sec. 13;

Sec. 14, excluding patented lands;

Secs. 15, 16, 17,

Secs. 20 to 29, inclusive, and secs. 32 to 36, inclusive.

T.19 S., R. 69 E.,

Secs. 1 and 2, inclusive, excluding patented lands;

Secs. 3 to 10, inclusive;

Sec. 11, excluding patented lands;

Secs. 12 to 36, inclusive.

T. 20 S., R. 69 E.,

Secs. 1 to 17, inclusive;

Secs. 18, 19, and 20, inclusive for those portions lying northeast of the Bureau of Reclamation Project boundary;

Secs. 21 to 27, inclusive;

Secs. 28, 29, and 33, for those portions lying northeast of the Bureau of Reclamation Project boundary.

T. 18 S., R. 70 E.,

Secs. 7, 8, 9, secs. 16 to 21 inclusive, and secs. 28 to 33, inclusive, unsurveyed.

T. 19 S., R. 70 E.,

Secs. 1 to 36, inclusive, unsurveyed.

T. 20 S., R. 70 E.,

Secs. 1 to 11, inclusive, secs. 14 to 22, inclusive, and secs. 27 to 30, inclusive, unsurveyed.

T. 19 S., R. 71 E.,

Secs. 5 to 8, inclusive, secs. 17 to 20, inclusive, and secs. 29 and 30, unsurveyed;

Secs. 31 and 32, inclusive for those portions lying northeast of Bureau of Reclamation Project boundary.

Gold Butte Townsite ACEC (NVN 76877)

T. 19 S., R. 70 E.,

Sec. 17, S½NW¼ and N½SW¼, unsurveyed.

Hidden Valley ACEC (NVN 076878)

T. 18 S., R. 65 E.,

Sec. 26, W½, unsurveyed;

Sec. 27, E½, unsurveyed;

Secs. 34 and 35, unsurveyed.

T. 19 S., R. 65 E.,

Sec. 2, W½, unsurveyed;

Sec. 3, unsurveyed;

Sec. 10, N½, unsurveyed;

Sec. 11, NW¼, unsurveyed.

Keyhole Canyon ACEC (NVN 76879)

T. 26 S., R. 63 E.,

Sec. 3, lots 6, 7, and 8, and SW¼NE¼ and S½NW¼.

Mormon Mesa Tortoise ACEC (NVN 76880)

T. 13 S., R. 63 E.,

Sec. 25, lots 3, 4, 7, and 9, SW¼NW¼ and S½;

Sec. 36.

T. 13½ S., R. 63 E.,

Sec. 36, unsurveyed.

T. 14 S., R. 63 E.,

Sec. 1, unsurveyed.

T. 13 S., R. 64 E.,

Secs. 1 to 5, inclusive, unsurveyed.

Sec. 6, lots 1 and 2, S½NE¼ and SE¼, unsurveyed;

Sec. 7, NE¼ and E½SE¼, unsurveyed;

Secs. 8 to 17, inclusive, and secs. 20 to 29, inclusive, unsurveyed;

Sec. 30, that part lying south of Right-of-Way Nev 065185 (State of Nevada Highway 168), unsurveyed;

Secs. 31 to 36, inclusive, unsurveyed.

T. 13½ S., R. 64 E.,

Secs. 31 to 35, inclusive, unsurveyed;

Sec. 36, that part lying north of Right-of-Way Nev 060130 (U.S. Highway 93), unsurveyed.

T. 14 S., R. 64 E.,

Secs. 2 to 6, inclusive, secs. 8 to 11, inclusive, and secs. 15 and 16, inclusive, unsurveyed.

T. 13 S., R. 65 E.,

Sec. 1, lots 2, 3, and 4, and SW¼NE¼, S½NW¼, SW¼ and W½SE¼;

Secs. 2 to 24, inclusive;

Sec. 26, N½;

Sec. 27, N½;

Sec. 28, N½ and SW¼;

Secs. 29 and 30;

Sec. 31, that part lying north of Right-of-Way Nev 060130 (U.S. Highway 93);

Sec. 32;

Sec. 33, W½.

T. 13 S., R. 66 E.,

Secs. 1 to 5, inclusive;

Sec. 6, lots 1 to 4, inclusive, and S½NE¼, SE¼NW¼, E½SW¼ and SE¼;

Sec. 7 to 18, inclusive;

Sec. 19, lots 1 to 4, inclusive, SE¼NW¼, E½SW¼ and SW¼SE¼;

Secs. 20 to 24, inclusive.

T. 13 S., R. 67 E.,

Secs. 1 to 36, inclusive.

T. 14 S., R. 67 E.,

Secs. 1 to 5, inclusive;

Sec. 6, lots 1 and 2, and S½NE¼ and SE¼;

Sec. 7, NE¼;

Secs. 8 to 11, inclusive;

Secs. 12 to 15, inclusive for those portions lying north of Right-of-Way Nev 061478 (U.S. Interstate 15);

Sec. 16;

Sec. 17, N½ and SE¼;

Sec. 20, E½;

Secs. 21 and 22, inclusive for those portions lying north of Right-of-Way Nev 061478 (U.S. Interstate 15).

T. 13 S., R. 68 E.,

Secs. 1 to 32, inclusive;

Secs. 33 to 36, inclusive for those portions lying north of Right-of-Way Nev 061478 (U.S. Interstate 15).

T. 14 S., R. 68 E.,

Secs. 4 to 7, inclusive for those portions lying north of Right-of-Way Nev 061478 (U.S. Interstate 15).

T. 13 S., R. 69 E.,

Secs. 1 to 24, inclusive;

Sec. 25, lots 1, 3, 12, and 15, N½ and N½SE¼;

Sec. 26, lots 1, 5, 8, 10, 11, and 14, and N½NE¼, SE¼NE¼ and NE¼NW¼;

Sec. 27, lots 1, 3, 5, 7, and 9;

Sec. 28, lots 1, 3, 5, and 8, and N½N½;

Sec. 29, lots 1, 5, 8, 11, and 13, and N½NE¼, SW¼NE¼ and NW¼;

Sec. 30, lots 5 to 10, inclusive, lots 12 to 16, inclusive, lots 18, 20, 23, and 26, NE¼ and NW¼SE¼.

T. 13 S., R. 70 E.,

Secs. 4 and 5, west of Boundary Line; **

Secs. 6 and 7;

Secs. 8, 9, and 17, west of Boundary Line;

Secs. 18 and 19;

Secs. 20 and 29, west of Boundary Line;

Sec. 30, lots 5, 6, 7, 9, 12, 14, and 16;

Sec. 31, lots 9 and 11, both portions north of Right-of-Way Nev 064785 (U.S. Interstate 15) centerline;

Sec. 32, lot 9.

** The “Boundary Line” as denoted in the above legal descriptions for the Mormon Mesa ACEC refers to the eastern boundary line of the ACEC, which follows closely the edge of the Mesa and Toquop Wash. However, the line is not the Mesa edge, nor Toquop Wash, but follows closely between the two. The “Boundary Line” denoted for the eastern edge of the ACEC is shown on the 7.5 minute USGS Flat Top Mesa Topographic Map.

Piute/Eldorado Tortoise ACEC (NVN 76881)

T. 28 S., R. 60 E.,

Secs. 2, 3, 10, and 11;

Sec. 13, W½ and SE¼;

Secs. 14 to 17, inclusive, and secs. 21, 22, and 23;

Sec. 24, all, excluding patented lands;

Secs. 25 and 26, for both portions lying north of Right-of-Way Nev 058548 (State of Nevada Highway 164);

Sec. 26, that part lying north of Right-of-Way Nev 058548 (State of Nevada Highway 164);

Sec. 27.

T. 26 S., R. 61 E.,

Secs. 1 and 2, secs. 11 to 14, inclusive, and secs. 24, 25, and 36.

T. 27 S., R. 61 E.,

Secs. 1, 12, and 13, secs. 23 to 26, inclusive, secs. 35 and 36.

T. 28 S., R. 61 E.,

Secs. 1 and 2, and secs. 10 to 12, inclusive;

Secs. 13, 14, and 15, for those portions lying north of Right-of-Way Nev 058548 (State of Nevada Highway 164);

Sec. 16;

Sec. 19, excluding patented lands;

Sec. 20, that part lying north of Right-of-Way Nev 058548 (State of Nevada Highway 164) and excluding patented lands;

Secs. 21, 22, 29, and 30, inclusive for those portions lying north of Right-of-Way Nev 058548 (State of Nevada Highway 164).

T. 29 S., R. 61 E.,

Sec. 36.

T. 26 S., R. 62 E.,

Secs. 3 to 10, inclusive, and secs. 15 to 20, inclusive;

Sec. 22, E½ and N½NW¼;

Secs. 23 to 26, inclusive;

Sec. 27, NE¼;

Secs. 29 to 32, inclusive, and secs. 35 and 36.

T. 27 S., R. 62 E.,

Sec. 1, secs. 5 to 8, inclusive, and sec.12;

Sec. 13, E½;

Secs. 17 to 20, inclusive;

Sec. 24, E½;

Sec. 25, E½;

Secs. 29 to 36, inclusive.

T. 28 S., R. 62 E.,

Secs. 1 to 17, inclusive;

Sec. 18, that part lying north of Right-of-Way Nev 058548 (State of Nevada Highway 164);

Secs. 20 and 21;

Sec. 22, N½, N½SW¼ and SE¼;

Secs. 23 to 26, inclusive;

Sec. 27, NE¼, S½NW¼ and S½;

Secs. 28 and 29;

Sec. 31, lots 14 and 15, N½SE¼, excluding patented lands;

Secs. 32 to 36, inclusive.

T. 29 S., R. 62 E.,

Secs. 1 to 5, inclusive;

Sec. 6, E½;

Secs. 7 to 32, inclusive;

Sec. 33, NE¼NE¼ and NW¼NW¼;

Secs. 34 to 36, inclusive.

T. 30 S., R. 62 E.,

Secs. 1 and 2;

Secs. 11 to 14, inclusive.

T. 27 S., R. 62½ E.,

Secs. 1, 12, 13, 24, 25, and 36, unsurveyed.

T. 26 S., R. 63 E.,

Sec. 19;

Sec. 20, that part lying west of Right-of-Way NVCC 020733 (U.S. Interstate 95) and south of powerline Right-of-Way N-00869;

Secs. 21 to 25, inclusive for those portions lying south of powerline Right-of-Way N-00869;

Secs. 26 to 36, inclusive.

T. 27 S., R. 63 E.,

Secs. 1 to 36, inclusive.

T. 28 S., R. 63 E.,

Secs. 1 to 8, inclusive;

Sec. 9, excluding patented lands;

Secs. 10 and 11;

Sec. 12, lots 1 to 8, inclusive, and N½;

Sec. 13, lots 1, 2, and 3, and NW¼NE¼, S½NE¼, NW¼, N½SW¼, and SE¼;

Sec. 14, lots 1 and 8, and N½;

Sec. 15, excluding patented lands;

Secs. 16 to 20, inclusive;

Sec. 29, that part lying north of Right-of-Way Nev 058548 (State of Nevada Highway 164);

Sec. 30, excluding SE¼NE¼ that part lying south of Right-of-Way Nev 058548 (State of Nevada Highway 164) and excluding E½SE¼;

Sec. 31;

Sec. 32, W½SW¼ and SE¼SW¼.

T. 29 S., R. 63 E.,

Sec. 5 to 10, inclusive, and sec. 15 to 22, inclusive;

Secs. 23, 24, and 25, for those portions lying west of Right-of-Way NVCC 020845 (U.S. Interstate 95);

Secs. 26 to 36, inclusive.

T. 30 S., R. 63 E.,

Secs. 1 to 16, inclusive, and secs. 21 to 24, inclusive;

Sec. 25, excluding patented lands;

Secs. 26 to 29, inclusive, and secs. 32 to 35, inclusive;

Sec. 36, excluding patented lands.

T. 31 S., R. 63 E.,

Sec. 1, lots 3 and 4, and S½NW¼ and SW¼;

Sec. 2;

Sec. 3, lots 1, 2, and 3, and S½NE¼, SE¼NW¼ and S½;

Sec. 4, lot 4, and SW¼NW¼;

Secs. 5, 8, 10, and 11;

Sec. 12, W½ and W½SE¼;

Sec. 13, W½ and W½E½;

Secs. 14, 15, secs. 22 to 26, inclusive, and 36.

T. 26 S., R. 64 E.,

Secs. 29 and 30, inclusive for those portions lying south of powerline Right-of-Way N-00869;

Secs. 31, 32, and 33.

T. 27 S., R. 64 E.,

Secs. 4 to 9 and secs. 16 to 23, inclusive;

Sec. 25, excluding patented lands;

Secs. 26 and 27;

Secs. 28 and 29, inclusive excluding patented lands;

Secs. 30 and 31;

Secs. 32 and 33, inclusive excluding patented lands;

Secs. 34, 35, and 36.

T. 28 S., R. 64 E.,

Secs. 1 to 6, inclusive;

Secs. 7 and 8, excluding patented lands;

Secs. 9 to 16, inclusive;

Secs. 17 and 18, excluding patented lands;

Secs. 21 to 26, inclusive, and 35 and 36.

T. 29 S., R. 64 E.,

Secs. 1, 2, 3, secs. 9 to 16, inclusive, secs. 21 to 28, inclusive, and secs. 31 to 36, inclusive.

T. 30 S., R. 64 E.,

Secs. 1 to 29, inclusive;

Sec. 31, lots 3 and 4, lots 13 to 68, inclusive, and E½NE¼, E½SW¼ and SE¼;

Secs. 32 to 36, inclusive.

T. 31 S., R. 64 E.,

Secs. 1 to 31, inclusive;

Sec. 32, N½ and SW¼;

Secs. 33 to 36, inclusive.

T. 32 S., R. 64 E.,

Secs. 1, 2, and 3;

Sec. 4, lots 1 and 2, lots 5 to 24, inclusive, lots 34 to 47, inclusive, lots 59 to 82, inclusive, and lots 84 to 128, inclusive, and S½SE¼NW¼, SW¼, S½NE¼SE¼, SE¼NW¼SE¼, E½SW¼SE¼ and SE¼SE¼;

Sec. 5, lots 6 to 9, inclusive, lots 12 and 13, lots 15 to 22, inclusive, lots 25 to 29, inclusive, lots 32 to 37, inclusive, lots 40 to 45, inclusive, lots 47 to 78, inclusive, and SW¼NE¼, SE¼NW¼ and NW¼SE¼;

Secs. 6 and 8;

Sec. 9, lots 1, 2, 7 and 8, lots 10 to 21, inclusive, lots 27 to 30, inclusive, lots 38 to 41, inclusive, lots 48, 49, 56, 63, 75, 76, 77, and lots 79 to 84, inclusive, and SW¼NE¼ and NW¼SE¼;

Secs. 10 to 16, inclusive, secs. 22 to 26, inclusive, and sec. 36.

T. 30 S., R. 65 E.,

Secs. 4, 5, and 6, unsurveyed;

Secs. 7, 8, and 9, excluding patented lands, unsurveyed;

Sec. 16, unsurveyed;

Secs. 17 and 18, inclusive, excluding patented lands, unsurveyed;

Secs. 19, 20, 21, 30 and 31, unsurveyed.

T. 31 S., R. 65 E.,

Sec. 6, and secs. 28 to 33, inclusive, unsurveyed.

T. 32 S., R. 65 E.,

Secs. 2 to 8, inclusive;

Secs. 9 to 12, inclusive for those portions lying north and west of Right-of-Way NVCC 022416 (State of Nevada Highway 163);

Secs. 17 to 20, inclusive and secs. 29 to 32, inclusive.

T. 33 S., R. 65 E.,

Sec. 5.

Rainbow Gardens ACEC (NVN 76882)

T. 20 S., R. 62 E.,

Sec. 12;

Sec. 13, lots 1, 2, 15 and 16;

Secs. 24 and 25;

Sec. 35, lots 1 to 4, inclusive;

Sec. 36.

T. 21 S., R. 62 E.,

Secs. 1, 12 and 13;

Sec. 14, E½.

T. 20 S., R. 63 E.,

Sec. 1, N½, NW¼NE¼SW¼, N½NW¼SW¼, SW¼NW¼SW¼, SW¼SW¼, and W½SE¼SW¼, unsurveyed;

Secs. 2 and 7, unsurveyed;

Sec. 8, W½, unsurveyed;

Sec. 11, excluding patented lands, unsurveyed;

Sec. 12, NW¼NW¼ and W½SW¼, unsurveyed;

Sec. 13, W½NE¼NW¼, W½NW¼, W½SE¼NW¼, SW¼, S½NE¼SE¼, W½NW¼SE¼ and S½SE¼, unsurveyed;

Secs. 14 to 34, inclusive, unsurveyed.

T. 21 S., R. 63 E.,

Secs. 3 to 10 inclusive, and secs. 16 to 18, inclusive;

Sec. 19, N½ and SE¼;

Sec. 20;

Sec. 21, N½, SW¼, N½SE¼ and SW¼SE¼.

T. 20 S., R. 64 E.,

Secs. 4 and 5;

Sec. 8, N½ and SE¼;

Secs. 9 and 16;

Sec. 19, lots 7 and 8, and SE¼SW¼;

Sec. 20, S½NE¼, NE¼SW¼, S½SW¼ and SE¼;

Sec. 21;

Secs. 28, 29, and 30.

Red Rock Spring ACEC (NVN 76883)

T. 17 S., R. 70 E.,

Sec. 7, SE¼;

Sec. 8, SW¼;

Sec. 17, NW¼;

Sec. 18, NE¼.

River Mountains ACEC (NVN 76884)

T. 21 S., R. 63 E.,

Sec. 36, N½.

T. 22 S., R. 63 E.,

Secs. 11, 12, and 13;

Sec. 23, E½;

Secs. 24 and 25;

Sec. 26, E½;

Sec. 36.

T. 22 S., R. 63½ E.,

Secs. 12, 13, 24, 25, and 36.

T. 23 S., R. 63½ E.,

Sec. 1, lots 1 to 7, inclusive, and S½NE¼.

Sloan Rock Art ACEC (NVN 76885)

T. 23 S., R. 61 E.,

Sec. 35, S½S½.

T. 24 S., R. 61 E.,

Sec. 2, lots 1 to 4, inclusive.

Stump Spring ACEC (NVN 76886)

T. 22 S., R. 55 E.,

Sec. 32, S½.

T. 23 S., R. 55 E.,

Sec. 5, lots 1 to 4, inclusive, and S½N½.

Virgin Mountain (Gold Butte Part C) ACEC (NVN 76887)

T. 15 S., R. 70 E.,

Sec. 1;

Secs. 12, 13, and 14, secs, 23 to 27, inclusive and secs. 34, 35, and 36.

T. 16 S., 70 E.,

Secs. 1, 2, 3, and 12.

T. 14 S., 71 E.,

Secs. 32, 33, and 34.

T. 15 S., 71 E.,

Secs. 3 to 10, inclusive, secs. 15 to 22 inclusive, and secs. 27 to 34, inclusive, unsurveyed.

T. 16 S., 71 E.,

Secs. 3 to 10, inclusive, and secs. 15 to 18, inclusive;

Secs. 20 and 21;

Sec. 22, lots 1 and 2, E½NW¼ and NE¼SW¼;

Sec. 27, lots 2, 3, and 4, SE¼NW¼ and E½SW¼;

Secs. 28, 33, and 34.

T. 17 S., 71 E.,

Sec. 3, unsurveyed.

Virgin River ACEC (NVN 76888)

T. 14 S., R. 69 E.,

Sec. 11, SE¼;

Sec. 12, W½NE¼, NW¼ and NW¼SW¼;

Sec. 14, N½NE¼, NW¼, N½SW¼ and SE¼SW¼;

Sec. 15, SE¼;

Sec. 22, NE¼ and S½;

Secs. 26, 27, and 28, for those portions of public land lying north of Gold Butte Back Country Byway Road;***

Sec. 29, S½;

Sec. 32, N½, SW¼ and SE¼SE¼;

Sec. 33, public land lying north of Gold Butte Back Country Byway Road.

T. 13 S., R. 70 E.,

Sec. 27, lots 8, 10, 17, 19, and 21, and that part lying south of Right-of-Way Nev 065014 (U.S. Interstate 15);

Sec. 33, lots 1, 11, 13, 15, and 17, SW¼, N½SE¼ and SW¼SE¼, that part lying south of Right-of-Way Nev 065014 (U.S. Interstate 15);

Sec. 34, lots 1 to 4, inclusive, 6, 10, and 11 and NW¼NW¼, that part lying south of Right-of-Way Nev 65014 (U.S. Interstate 15) and north of Right-of-Way Nev 07490 (State of Nevada Highway 170).

T. 14 S., R. 70 E.,

Sec. 3, lot 4, that portion lying north of Right-of-Way Nev 07490 (State of Nevada Highway 170);

Secs. 4 and 5, those portions lying northwest of Right-of-Way Nev 07490 (State of Nevada Highway 170);

Sec. 6, lots 1, 2, 6, and 7, S½NE¼, E½SW¼ and SE¼;

Secs. 7 and 8, those portions lying north of Right-of-Way Nev 07490 (State of Nevada Highway 170);

*** The Gold Butte Back Country Byway is a Clark County, Nevada Revised Statute 2477 road.

Whitney Pocket ACEC (NVN 76889)

T. 16 S., R. 70 E.,

Sec. 23, SE¼.

The areas described above aggregate approximately 944,343 acres in Clark and Nye County.

The BLM petition/application has been approved by the Assistant Secretary, Land and Minerals Management. Therefore, it constitutes a withdrawal proposal of the Secretary of the Interior (43 CFR 2310.1-3(e)).

The purpose of the withdrawal is to protect and preserve the biological and cultural resources with 24 ACECs. These ACECs are situated in remote and relatively pristine areas of the Mojave Desert, encompassing significant and/or unique biological and cultural resource values. To mitigate for loss of sensitive resources resulting from urbanization, the proposal would withdraw the subject lands from mineral location and entry.

The application will be processed in accordance with the regulations set forth in 43 CFR 2300. The use of a right-of-way, interagency, or a cooperative agreement would not adequately constrain non-discretionary uses which could adversely affect the special wildlife and riparian areas, threatened and endangered species and their habitats (specifically the threatened desert tortoise), archaeological and cultural resources, historic and prehistoric areas, paleontological and geological resources, and natural hazard areas. The uniqueness of these resources, habitats, and areas could also be irreversibly damaged.

No water rights would be needed to fulfill the purpose of this withdrawal.

Records relating to the application may be examined by interested parties at the BLM Las Vegas Field Office.

For a period of 90 days from the date of publication of this notice, all persons who wish to submit comments, suggestions, or objections in connection with the proposed withdrawal may present their views in writing to the BLM Las Vegas Field Office. Facsimiles, telephone calls, and electronic mails are unacceptable means of notification.

Comments, including names and street addresses of respondents, will be available for public review at the BLM Las Vegas Field Office, at the address noted above during regular business hours 8 a.m. to 4:30 p.m., Monday through Friday, except holidays. Before including your address, phone number, e-mail address, or other personal identifying information in your comments be advised that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

In accordance with 43 CFR 2310.3-1(b)(2)(v) a public meeting will be provided in connection with the proposed withdrawal at a location to be determined. The public will be notified of the date, time, and location of the public meeting through a notice published in the Federal Register at least 30 days before the scheduled date of the public meeting.

Licenses, permits, cooperative agreements, or discretionary land use authorizations of a temporary nature may be allowed in accordance with the Las Vegas Resource Management Plan, but only with the approval of an authorized officer of the BLM during the temporary segregation period.

This withdrawal proposal will be processed in accordance with the regulations set forth in 43 CFR 2300.

For a period of 2 years from the date of publication of this notice in the Federal Register, the lands will be segregated as specified above unless the application is denied or cancelled or the withdrawal is approved prior to that date.

(Authority: 43 CFR 2310.3-1)

Dated: October 26, 2007.
Michael R. Holbert,
Deputy State Director, Natural Resources, Lands & Planning.

[FR Doc. E7-21517 Filed 10-31-07; 8:45 am]

BILLING CODE 4310-HC-P